DEPARTMENT OF HEALTH AND HUMAN SERVICES

Centers for Disease Control and Prevention

Notice of Correction

ACTION: Notice; Correction.

In the Federal Register of April 17, 2002, Volume 67, Number 74, Page 18911 the following should read as follows:

Correction

DEPARTMENT OF HEALTH AND HUMAN SERVICES

Centers for Disease Control and Prevention

Centers for Disease Control and Prevention: Meeting

The Centers for Disease Control and Prevention (CDC) announces the following committee meeting:

Name: Advisory Committee on Immunization Practices, Smallpox Working Group.

Times and Dates:

9 a.m.-12 p.m., May 8, 2002 (Closed).

1 p.m.-9 p.m., May 8, 2002.

8:30 a.m.-11:30 a.m., May 9, 2002.

Place: Atlanta Marriott Century Center, 2000 Century Boulevard, NE, Atlanta, Georgia 30345-3377.

Status: Closed 9 a.m.-12 p.m., May 8, 2002. Remainder of meeting open to the public, limited only by the space available.

Purpose: The working group will convene in closed session from 9 a.m.-12 a.m., May 8, 2002. During the open session the working group will gather information and formulate options to be presented to the Advisory Committee on Immunization Practices for its deliberation in making recommendations for the use of vaccinia (smallpox) vaccine.

Matters To Be Discussed: The panel will gather information regarding the use of vaccinia (smallpox) vaccine.

Contact Person for More Information: Gloria A. Kovach, Program Analyst, Epidemiology and Surveillance Division, National Immunization Program, CDC,1600 Clifton Road, NE, m/s E61, Atlanta, Georgia 30333. Telephone 404/639-8096.

The Director, Management Analysis and Services Office, has been delegated the authority to sign Federal Register notices pertaining to announcements of meetings for both the Centers for Disease Control and Prevention and the Agency for Toxic Substances and Disease Registry.

Dated: April 29, 2002.
John Burckhardt,
Acting Director, Management Analysis and Services Office, Centers for Disease Control and Prevention.

[FR Doc. 02-10983 Filed 5-2-02; 8:45 am]

BILLING CODE 4163-18-P